DEPARTMENT OF ENERGY

Bonneville Power Administration

TransAlta Centralia Generation LLC Big Hanaford Project

AGENCY: Bonneville Power Administration (BPA), Department of Energy (DOE).

ACTION: Notice of availability of Record of Decision (ROD).

SUMMARY: This notice announces the availability of the ROD to offer contract terms for integrating power from the TransAlta Centralia Generation LLC Big Hanaford Project into the Federal Columbia River Transmission System. This decision is based on input from public processes and information in the BPA Business Plan Environmental Impact Statement (DOE/EIS-0183, June 1995) and the Business Plan ROD (August 15, 1995). This project is a 248-megawatt gas-fired, combined-cycle combustion turbine power generation project in Lewis County, Washington, which will help meet the immediate need for energy resources of the region and serve as a resource to meet future demand.

ADDRESSES: Copies of the TransAlta Centralia Generation LLC Big Hanaford Project ROD, Business Plan, Business Plan EIS, and Business Plan ROD may be obtained by calling BPA's toll-free document request line, 1-800-622-4520; or at our web site, www.efw.bpa.gov.

FOR FURTHER INFORMATION, CONTACT: Thomas C. McKinney, Bonneville Power Administration—KEC-4, P.O. Box 3621, Portland, Oregon, 97208-3621; toll-free telephone number 1-800-282-3713; fax number 503-230-5699; or e-mail tcmckinney@bpa.gov.

Issued in Portland, Oregon, on October 19, 2001.
Stephen J. Wright,
Acting Administrator and Chief Executive Officer.

[FR Doc. 01-27122 Filed 10-26-01; 8:45 am]

BILLING CODE 6450-01-U